DEPARTMENT OF COMMERCE

National Oceanic and Atmospheric Administration

50 CFR Part 679

[Docket No. 110207103-1113-01]

RIN 0648-AY65

Fisheries of the Exclusive Economic Zone Off Alaska; Revisions to Pacific Cod Fishing in the Parallel Fishery in the Bering Sea and Aleutian Islands Management Area

AGENCY: National Marine Fisheries Service (NMFS), National Oceanic and Atmospheric Administration (NOAA), Commerce.

ACTION: Final rule.

SUMMARY: NMFS issues regulations to limit access of Federally permitted pot and hook-and-line catcher/processors (C/Ps) to the Pacific cod fishery in Alaska State waters within 3 nautical miles of shore adjacent to the Bering Sea and Aleutian Islands management area (BSAI). The affected fishery is commonly known as the “parallel” fishery. The parallel fishery is managed by the State of Alaska concurrent with the Federal pot and hook-and-line fishery for Pacific cod in the BSAI. This rule limits access by Federally permitted vessels to the parallel fishery for Pacific cod in three ways. First, it requires an owner of a Federally permitted pot or hook-and-line C/P vessel used to catch Pacific cod in the State of Alaska parallel fishery to be issued the same endorsements on his or her Federal fisheries permit (FFP) or license limitation program (LLP) license as currently are required for catching Pacific cod in the Federal waters of the BSAI. Second, it provides that the owner of a pot or hook-and-line C/P vessel who surrenders an FFP will not be reissued a new FFP for that vessel within the 3-year term of the permit. Third, it requires an operator of any Federally permitted pot or hook-and-line C/P vessel used to catch Pacific cod in the parallel fishery to comply with the same seasonal closures of Pacific cod that apply in the Federal fishery. These three measures are necessary to limit some C/Ps from catching a greater amount of Pacific cod in the parallel fishery than has been allocated to their sector from the BSAI total allowable catch. Maintaining Pacific cod catch amounts within BSAI sector allocations also will reduce the potential for shortened Pacific cod seasons for C/Ps in the Federal fishery. These three measures will improve the effectiveness of NMFS' catch accounting and monitoring requirements on vessels participating in the parallel fishery. This action is intended to promote the goals and objectives of the Fishery Management Plan for Groundfish of the Bering Sea and Aleutian Islands Management Area, the Magnuson-Stevens Fishery Conservation and Management Act, and other applicable laws.

DATES: Effective January 1, 2012.

ADDRESSES: Electronic copies of this rule, the Environmental Assessment (EA), Regulatory Impact Review (RIR), and Final Regulatory Flexibility Analysis (FRFA) may be obtained from the Alaska Region Web site at http://alaskafisheries.noaa.gov.

Written comments regarding the burden-hour estimates or other aspects of the collection-of-information requirements contained in this final rule may be submitted by mail to NMFS, Alaska Region, P.O. Box 21668, Juneau, AK 99802-1668, Attn: Ellen Sebastian, Records Officer; in person at NMFS, Alaska Region, 709 West 9th Street, Room 420A, Juneau, Alaska; and by email to OIRA_Submission@omb.eop.gov, or by fax to 202-395-7285.

FOR FURTHER INFORMATION CONTACT: Jeff Hartman, (907) 586-7442.

SUPPLEMENTARY INFORMATION: NMFS manages the groundfish fisheries in the exclusive economic zone (EEZ) of the Bering Sea and Aleutian Islands management area (BSAI) under the Fishery Management Plan for Groundfish of the Bering Sea and Aleutian Islands Management Area (FMP). The North Pacific Fishery Management Council prepared the FMP pursuant to the Magnuson-Stevens Fishery Conservation and Management Act (Magnuson-Stevens Act), 16 U.S.C. 1801 et seq. Regulations implementing the FMP appear at 50 CFR part 679. General regulations that pertain to U.S. fisheries appear at subpart H of 50 CFR part 600.

Background

Federal groundfish fisheries in the EEZ from 3 to 200 nm off the coast of Alaska may be opened by NMFS to directed fishing for Pacific cod and other groundfish species. The Commissioner of the Alaska Department of Fish and Game (ADF&G) may open groundfish fisheries in State of Alaska waters through emergency orders that parallel the openings and management measures in the Federal groundfish fishery.

To participate in Federal fisheries, NMFS requires various permits that authorize or limit access to the Federal groundfish fisheries, such as a Federal fisheries permit (FFP) and a license limitation program (LLP) license. Operators of vessels designated on an FFP are required to comply with many Federal catch monitoring regulations, including observer and recordkeeping and reporting requirements while participating in Federal and parallel fisheries. Operators of vessels designated on an FFP and endorsed with the appropriate species designation on the FFP are required to comply with NMFS Vessel Monitoring Systems (VMS) reporting requirements if they participate in the directed Atka mackerel, Pacific cod, or pollock fisheries in Federal or parallel waters. However, a vessel used to fish exclusively in the State parallel water fisheries is not required to be designated on an FFP and the operator does not need to comply with NMFS observer, VMS, or recordkeeping and reporting requirements. In addition, to participate in a non-trawl directed fishery for Pacific cod as a catcher/processor (C/P) in the Bering Sea (BS) or Aleutian Islands (AI), a vessel also must be designated on an LLP license with an endorsement for Pacific cod in the BS or AI for a C/P using pot or hook-and-line gear. These endorsements on an LLP license are not severable from the license. An LLP license with its associated endorsements may be assigned to a different vessel only once per year.

Some vessel operators fishing for Pacific cod have surrendered or amended endorsements on their FFPs before fishing in the Pacific cod parallel fishery. As a result, they are not subject to NMFS observer, VMS, and recordkeeping and reporting requirements. This compromises the ability of NMFS to collect from the parallel waters Pacific cod fishery data that is necessary for management, compliance monitoring and research of groundfish fisheries and the conservation of marine resources.

Several Federally permitted operators of pot and hook-and-line C/Ps have been participating in the BSAI parallel Pacific cod fishery without being issued the FFP and LLP license endorsements on those permits and licenses that are necessary to participate in the Federal Pacific cod fishery. These vessel operators recently entered the parallel fishery without demonstrating a long-term economic dependence on the Pacific cod fishery. The additional catch of Pacific cod resulting from this activity was circumventing the intended effectiveness of three FMP amendments that were implemented to control access and curtail the excessive competition and fishing effort that had developed in the Pacific cod fishery throughout much of the previous two decades. These three FMP amendments are the BSAI FMP Amendment 67 Pacific cod LLP endorsement (67 FR 18129, April 15, 2002), the BSAI FMP Amendment 85 Pacific cod sector allocations (72 FR 50788, September 4, 2007), and the BSAI hook-and-line C/P sector Pacific cod capacity reduction program (71 FR 57696, September 29, 2006). Catch of Pacific cod taken by the C/Ps that do not have the necessary FFP and LLP license endorsements is deducted by NMFS from the Federal TAC (§ 679.20(a)(7)) and then is not available to other participants in the Federal fisheries Pacific cod sector.

Actions Implemented by Rule

In consideration of the effects of the practices described in the Background section on the allocation of Pacific cod and data quality, NMFS implements the following three revisions to participation of pot or hook-and-line C/Ps in the Pacific cod parallel fishery. These three revisions amend regulations for pot and hook-and-line C/Ps by extending FFP and LLP endorsement requirements that apply in Federal fisheries to the Pacific cod parallel fishery, placing restrictions on the provisions reissuing or amending an FFP, and requiring operators of these pot and hook-and-line C/Ps participating in the State parallel fishery to comply with seasonal closures of Pacific cod in the BSAI.

Endorsements for the State Parallel Fishery

The first of the three revisions broadens the applicability of endorsements on FFPs and LLP licenses in the parallel fishery. The endorsements apply to vessels designated on an FFP that fish for Pacific cod in the parallel fishery, use pot or hook-and-line gear in the parallel fishery, and catch and process Pacific cod in the parallel fishery. This rule amends § 679.7(c)(3) to prohibit a person from using pot or hook-and-line gear on a vessel designated on an FFP to catch and process Pacific cod in the parallel fishery in the BSAI unless:

1. The FFP has a C/P vessel operation endorsement; a pot or hook-and-line gear endorsement; and a BSAI area endorsement; and

2. The LLP license has a C/P vessel operation endorsement; a non-trawl gear endorsement; an Aleutian Islands area endorsement or a Bering Sea area endorsement; and a BSAI C/P Pacific cod hook-and-line or BSAI C/P Pacific cod pot endorsement.

This rule clarifies that under the authority of the Magnuson-Stevens Act, the endorsements listed in 1 and 2 as well as any conditions of these FFP and LLP endorsements apply to owners of Federally permitted pot or hook-and-line C/P vessels fishing for Pacific cod in the parallel fishery.

Reissuing and Amending an FFP

The second revision adds a new paragraph (B) to § 679.4(b)(4)(ii) to provide that, once surrendered, NMFS will not reissue an FFP to the owner of a vessel with a C/P vessel operation, pot or hook-and-line gear type, and BSAI area endorsement during the remainder of the 3-year term of the original FFP. This revision should deter an owner of a C/P using pot or hook-and-line gear in the BSAI from periodically surrendering his or her FFP primarily to avoid NMFS observer, VMS, and recordkeeping and reporting requirements.

This action also adds new paragraph (B) to § 679.4(b)(4)(iii) to prohibit the owner of a vessel named on an FFP with endorsements for C/P vessel operation category, pot or hook-and-line gear, and BSAI area groundfish from amending the FFP by removing the C/P operation, pot or hook-and-line gear, or BSAI area endorsements.

This rule further amends § 679.4(b)(4)(iii) to refer to the “owner” of a vessel who applied for and held an FFP rather than to the “owner or operator.” The term operator is removed because FFPs may only be issued to vessel owners.

Seasonal Closures

The third revision applies Pacific cod seasonal closure requirements to Federally permitted pot and hook-and-line C/Ps in both Federal and parallel Pacific cod fisheries. The closure requirements are implemented by adding paragraph (4) to § 679.7(c) to prohibit operators of vessels in the pot or hook-and-line C/P sector that are named on an FFP from fishing for Pacific cod in the parallel fishery once the directed fishery for Pacific cod for their sector is closed in Federal waters. Owners of Federally permitted pot or hook-and-line C/Ps who intend to catch and process Pacific cod in the parallel fishery receive notice from NMFS in the instructions for the FFP and in this rule that any Pacific cod caught by that vessel in the parallel fishery will be deducted from the Federal TAC. This rule is intended to improve enforceability of regulations at § 679.7(c)(3) and (c)(4) by clarifying that the owner of a Federally permitted pot or hook-and-line C/P will be in violation of these regulation prohibiting catching and processing Pacific cod in the parallel fishery during a seasonal closure or without the required FFP and LLP license endorsements.

What the Amendments Accomplish

This action requires owners of pot and hook-and-line C/Ps to be issued specific permits and endorsements to fish for Pacific cod in the State parallel fishery. This action effectively requires an owner of a pot or hook-and-line C/P who is issued an FFP to choose to fish for Pacific cod predominantly in the Federal fishery, or surrender the FFP and fish in State waters for the remainder of the 3-year term of the FFP. Owners of pot or hook-and-line C/Ps eligible to participate in the Federal fisheries are unlikely to surrender their FFP and give up the opportunity to continue to fish Pacific cod in the Federal fishery unless they are close to the end of the 3-year term of the FFP. Relying exclusively on Pacific cod catch in the parallel and other State fisheries for up to 3 years could represent a significant loss in revenue for many C/Ps because most Pacific cod are located in and caught in the Federal waters of the BSAI. Although this action does not prohibit the owner of a C/P without an FFP or LLP license from participating in the parallel fishery, it is intended to discourage the current practice of surrendering an FFP or removing an endorsement from an FFP before participating in the parallel fishery to avoid NMFS observer, VMS, and recordkeeping and reporting requirements.

Conservation and Management

This action supports the conservation and management of Federal fisheries as provided by Amendments 67 and 85 to the BSAI FMP. Amendment 67 created exclusive pot C/P and hook-and-line C/P sectors in order to participate in the BSAI Pacific cod fishery through an LLP. The creation of sectors effectively removed some vessels that did not historically participate in these Pacific cod fisheries, and reduced competition that contributed to the race for fish. Some of the C/Ps that did not qualify for the necessary LLP endorsement in Amendment 67 continue to fish for Pacific cod in the parallel fishery off allocations for the C/P pot and hook-and-line sectors created by Amendment 85. This action applies the same LLP endorsements that are required for Federally permitted pot or hook-and-line C/Ps to participate in the BSAI Pacific cod fishery to the parallel Pacific cod fishery, limiting the ability of C/Ps without an LLP or the appropriate LLP endorsements to fish off the Pacific cod sector allocations in the parallel fishery. Thus, this action contributes to conservation and management objectives by preventing C/Ps without an LLP or the appropriate endorsements to continue to participate in the parallel fishery, reducing the pool of vessels competing for limited allocations to the C/P pot and hook-and-line sectors, and limiting the race for fish in the BSAI.

An interim final rule for Steller sea lion protection measures (75 FR 77535, December 13, 2010, corrected 75 FR 81921, December 29, 2010) established closures in critical habitat waters 0 nm to 3 nm around certain rookeries and haulouts in the Aleutian Islands subarea. In the November 2010 Biological opinion that served as the basis for the Steller sea lion interim final rule, NMFS analyzed the application of closures for parallel and Federal Pacific cod fisheries. In that analysis, the parallel fishery was expected to be managed with the same closures as specific for the Federal Pacific cod fisheries as shown in Table 12 to 50 CFR part 679. Although the interim final rule closed State waters occurring inside Steller sea lion critical habitat, on January 11, 2011, the State issued an emergency order that allowed for Pacific cod harvest by hook-and-line vessels 58 ft length overall (LOA) or less, and by pot vessels 60 feet LOA or less, in critical habitat located in State waters between 175 degrees W. longitude and 178 degrees W. longitude. These areas are closed to Federally permitted vessels. NMFS has initiated an Endangered Species Act Section 7 consultation on the State's emergency order. Although this action does not prohibit the owner of a C/P without an FFP or LLP license from participating in the parallel fishery, this rule is intended to discourage a pot or hook-and-line C/P from surrendering its FFP and fishing in the parallel fishery in those areas closed in Table 12 to 50 CFR part 679 but open under State parallel management. This action will facilitate implementation of the closure areas for the protection of Steller sea lion critical habitat, as provided in the interim final rule and required by the biological opinion.

Comments and Responses

Detailed information on the management background and need for the action is in the preamble to the proposed rule (76 FR 13331, March 11, 2011). The regulatory amendments in this rule are unchanged from the proposed rule. Comments on the proposed rule were invited through April 11, 2011. NMFS received two submissions containing one unique public comment on the proposed rule. The comment is summarized and responded to below.

Comment: The commenters express support for the action because it may address loopholes that promoted an increase in fishing effort for Pacific cod, a prey species for endangered populations of Steller sea lions. Further, the commenters assert that the rule improves monitoring of Pacific cod fisheries.

Response: NMFS concurs.

Changes From the Proposed Rule

NMFS makes two changes in the final rule to correct the following references to be consistent with existing regulations. To correct the references, one change is made to § 679.7(c)(4)(i) to reflect the correct regulatory reference § 679.20(a)(7)(ii)(A)(4) through § 679.20(a)(7)(ii)(A)(6), and one change is made in § 679.7(c)(4)(ii) to reflect the correct regulatory reference § 679.20(a)(7)(ii)(A)(6) through § 679.20(a)(7)(ii)(A)(4). These corrections relate the appropriate gear type for pot or hook-and-line gear with the correct citation. These corrections have no other effect than to make the references consistent with current regulation at § 679.20.

Classification

The Administrator, Alaska Region, NMFS, determined that this final rule is necessary for the conservation and management of the groundfish fisheries off Alaska and that it is consistent with the Magnuson-Stevens Act and other applicable law.

The preamble to the proposed rule and this final rule serve as the small entity compliance guide required by Section 212 of the Small Business Regulatory Enforcement Fairness Act of 1996. This action does not require any additional compliance from small entities that is not described in the preamble. Copies of this final rule are available from NMFS at the following Web site: http://alaskafisheries.noaa.gov.

Executive Order 12866

This rule has been determined to be not significant for purposes of Executive Order 12866.

Regulatory Flexibility Act

A final regulatory flexibility analysis (FRFA) was prepared, as required by section 604(a) of the Regulatory Flexibility Act (RFA). The FRFA incorporates the initial regulatory flexibility analysis (IRFA) and provides a summary of the analyses completed to support the action. A copy of this analysis is available from NMFS (see ADDRESSES).

The FRFA for this final action explains the need for this rule, and its objectives. The FRFA notes that one public comment on the IRFA was submitted; describes and estimates the number of small entities to which the rule will apply; describes projected reporting, recordkeeping, and other compliance requirements of the rule; and describes the steps the agency has taken to minimize the significant economic impact on small entities, including a statement of the factual, policy, and legal reasons for selecting the alternative adopted in the final rule and why each one of the other significant alternatives to the rule considered by the agency that affect the impact on small entities was rejected.

Need for and Objectives of the Rule

This action is necessary because several owners of pot and hook-and-line C/Ps who have been issued an FFP and have been participating in the BSAI parallel Pacific cod fishery without being issued the FFP and LLP license endorsements on those permits and licenses that are necessary to participate in the Federal Pacific cod fishery. The additional catch of Pacific cod resulting from fishing without FFP and LLP license endorsements was circumventing the intended effectiveness of three FMP amendments that were implemented to control access and curtail the excessive competition and fishing effort that had developed in the Pacific cod fishery throughout much of the previous two decades. Other vessel owners in the BSAI parallel Pacific cod fishery have surrendered or amended endorsements on their FFPs before fishing in the Pacific cod parallel fishery to avoid NMFS observer, VMS, or recordkeeping and reporting requirements. The objectives for this action are to deter owners of pot and hook-and-line C/Ps from fishing for Pacific cod in the parallel fishery without the necessary FFP and LLP license endorsements, and to reduce the opportunities for C/P vessel owners to avoid NMFS observer, VMS, or recordkeeping and reporting requirements.

Public Comments

A proposed rule was published on March 11, 2011 (76 FR 13331) that included a summary of the IRFA that was prepared for the proposed rule. The public comment period ended on April 11, 2011. No comments specific to the IRFA were received. The one comment received specific to the action was in favor of the action and was summarized earlier in the preamble under Comments and Responses.

Number and Description of Small Entities Directly Regulated by the Rule

The directly regulated entities for this final action are the members of the commercial fishing industry that own groundfish pot or hook-and-line C/Ps that operate in the BSAI and State parallel waters. Under a conservative application of the Small Business Administration criterion and the best available data, there are four small entities out of a total of 44 vessels in 2008 that will be directly regulated by the final action. To provide these estimates, earnings from all Alaskan fisheries for 2008 were matched with the vessels that participated in the BSAI pot or hook-and-line fishery for that year.

Description of Significant Alternatives and a Description of Steps Taken to Minimize the Significant Economic Impacts on Small Entities

To minimize impacts on small entities, this action will not apply to pot or hook-and-line C/Ps of less than 32 ft length overall (LOA), or to pot or hook-and-line catcher vessels. The catcher vessels participating in these fisheries are generally operating in parallel and other fisheries only, and are not required by NMFS to be designated on an LLP license or FFP to participate in these groundfish fisheries.

In addition to the action alternative, NMFS evaluated an alternative to prohibit any owner of a vessel with a C/P endorsement on its FFP from amending the C/P endorsement, and only allow surrender or reactivation of the FFP at the end of the FFP permit cycle. That alterative was rejected because it applied to jig and trawl C/Ps, and was beyond the scope of the problem statement and analysis. NMFS also evaluated the “no action” alternative, but it was rejected because it does not address the problem statement.

The majority of the directly regulated entities under this action are not considered small entities, as defined under the RFA. Within the universe of small entities that are the subject of this FRFA, impacts may accrue differently (i.e., some small entities could be negatively affected and others positively affected). Thus, this final action represents tradeoffs in terms of impacts on small entities. However, this action provides options for the smallest of the small entities under this amendment by excluding catcher vessels from the regulatory changes. The restrictions on participation in the BSAI Pacific cod parallel fishery only apply to pot and hook-and-line C/Ps; therefore only these C/Ps are considered here.

Overall, it is unlikely that the combination of these restrictions will preclude vessel owners with a high degree of economic dependence upon the pot or hook-and-line groundfish fisheries from participating in the Pacific cod parallel fishery. Most of the vessel owners who are highly dependent on these fisheries were issued an LLP license with pot or hook-and-line Pacific cod endorsements, in 2003, under Amendment 67, by demonstrating recent catch history in the BSAI Pacific cod fishery. Most of the vessel owners who have not been issued an LLP license with a Pacific cod endorsement and who have fished in the parallel fishery are recent entrants to the fishery and have not demonstrated long-term economic dependence on the fishery. These vessel owners will continue to have access to the state Pacific cod fishery after implementation of the final action. None of the entities that have historically engaged in the practices described in the preamble to this rule, and that circumvented the intent of sector allocations in the Pacific cod fishery, are small entities.

Based upon the best available scientific data, and consideration of the objectives of this action, NMFS determined that there are no alternatives to this action that have the potential to accomplish the stated objectives of the Magnuson-Stevens Act and any other applicable statutes and that have the potential to minimize any significant adverse economic impact of the rule on small entities. The analysis did not identify any Federal rules that will duplicate, overlap, or conflict with the action. This rule requires revisions to some existing recordkeeping and reporting requirements but imposes no new requirements on the affected vessel owners or operators.

Collection-of-Information Requirements.

This rule contains collection-of information requirements subject to the Paperwork Reduction Act (PRA) that have been approved by the Office of Management and Budget (OMB), under OMB Control No. 0648-0206. Public reporting burden for an Application for a Federal Fisheries Permit is estimated to average 21 minutes per response. This rule also includes a collection-of-information that has been approved by OMB under OMB Control No. 0334. Total public reporting burden for the License Limitation Program is estimated at 268 hours.

These estimates of public reporting burden include the time for reviewing instructions, searching existing data sources, gathering and maintaining the data needed as well as completing and reviewing the collection-of-information. Send comments regarding this burden estimate or any other aspect of this data collection, including suggestions for reducing the burden, to NMFS (see Public ADDRESSES); email to OIRA_Submission@omb.eop.gov, or fax to (202) 395-7285. Notwithstanding any other provision of law, no person is required to respond to, and no person shall be subject to penalty for failure to comply with a collection of information subject to the requirements of the PRA, unless that collection of information displays a currently valid OMB control number.

List of Subjects in 50 CFR Part 679

Alaska, Fisheries, Reporting and recordkeeping requirements.

Dated: November 22, 2011.
Samuel D. Rauch III,
Deputy Assistant Administrator for Regulatory Programs, National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.4, paragraphs (b)(4)(ii) and (iii) are revised to read as follows:

§ 679.4 Permits.

* * * * *

(b) * * *

(4) * * *

(ii) Surrendered permit—(A) An FFP permit may be voluntarily surrendered in accordance with paragraph (a)(9) of this section. Except as provided under paragraph (b)(4)(ii)(B) of this section, if surrendered, an FFP may be reissued to the permit holder of record in the same fishing year in which it was surrendered. Contact NMFS/RAM by telephone, at (907) 586-7202 or toll-free at (800) 304-4846.

(B) NMFS will not reissue an FFP to the owner of a vessel named on an FFP that has been issued with endorsements for catcher/processor vessel operation type, pot or hook-and-line gear type, and the BSAI area, until after the expiration date of the surrendered FFP.

(iii) Amended permit—(A) An owner who applied for and received an FFP must notify NMFS of any change in the permit information by submitting an FFP application found at the NMFS Web site at http://alaskafisheries.noaa.gov. The owner must submit the application as instructed on the application form. Except as provided under paragraph (b)(4)(iii)(B) of this section, upon receipt and approval of a permit amendment, the Program Administrator, RAM, will issue an amended FFP.

(B) NMFS will not approve an application to amend an FFP to remove a catcher/processor vessel operation endorsement, pot gear type endorsement, hook-and-line gear type endorsement or BSAI area endorsement from an FFP that has been issued with endorsements for catcher/processor vessel operation type, pot or hook-and-line gear type, and the BSAI area.

* * * * *

3. In § 679.7, paragraphs (c)(3) and (c)(4) are added to read as follows:

§ 679.7 Prohibitions.

* * * * *

(c) * * *

(3) Parallel fisheries. Use a vessel named or required to be named on an FFP to catch and process Pacific cod from waters adjacent to the BSAI when Pacific cod caught by that vessel is deducted from the Federal TAC specified under § 679.20(a)(7)(ii)(A)(4) of this part for hook-and-line gear or (a)(7)(ii)(A)(6) of this part for pot gear unless that vessel is designated on both:

(i) An LLP license issued under § 679.4(k) of this part with the following endorsements:

(A) A catcher/processor endorsement;

(B) A BSAI catcher/processor Pacific cod hook-and-line, or a BSAI catcher/processor Pacific cod pot endorsement;

(C) An Aleutian Islands area endorsement or Bering Sea area endorsement; and

(D) A non-trawl endorsement; and

(ii) An FFP issued under § 679.4(b) of this part with the following endorsements:

(A) A catcher/processor endorsement;

(B) A BSAI endorsement; and

(C) A pot or hook-and-line gear type endorsement.

(4) Parallel fishery closures—(i) Use a vessel named or required to be named on an FFP to catch and process Pacific cod with pot gear from waters adjacent to the BSAI when Pacific cod caught by that vessel is deducted from the Federal TAC specified under § 679.20(a)(7)(ii)(A)(6) of this part for pot gear if the BSAI is open to directed fishing for Pacific cod but is not open to directed fishing for Pacific cod by a catcher/processor using pot gear.

(ii) Use a vessel named or required to be named on an FFP, to catch and process Pacific cod with hook-and-line gear from waters adjacent to the BSAI when Pacific cod caught by that vessel is deducted from the Federal TAC specified under § 679.20(a)(7)(ii)(A)(4) of this part for hook-and-line gear, if the BSAI is open to directed fishing for Pacific cod but is not open to directed fishing for Pacific cod by a catcher/processor using hook-and-line gear.

* * * * *

[FR Doc. 2011-30727 Filed 11-28-11; 8:45 am]

BILLING CODE 3510-22-P